DEPARTMENT OF ENERGY

Federal Energy Regulatory Commission

[Project No. 15043-002]

Craig-Hayden PS, LLC; Notice of Intent To File License Application, Filing of Pre-Application Document, and Approving Use of the Traditional Licensing Process

a. Type of Filing: Notice of Intent to File License Application and Request to Use the Traditional Licensing Process.

b. Project No.: 15043-002.

c. Dated Filed: December 20, 2024.

d. Submitted By: Craig-Hayden PS, LLC.

e. Name of Project: Craig-Hayden Pumped Storage Project.

f. Location: The proposed project would be located approximately 7 miles southeast of Craig, in Moffat County, Colorado.

g. Filed Pursuant to: 18 CFR 5.3 of the Commission's regulations.

h. Applicant Contact: Matthew Shapiro, CEO, rPlus Hydro LLLP, 800 West Main Street, Suite 900, Boise, Idaho 83702; (208) 246-9925; email: mshapiro@rplusenergies.com.

i. FERC Contact: Khatoon Melick at (202) 502-8433 or email at khatoon.melick@ferc.gov.

j. Craig-Hayden PS, LLC filed its request to use the Traditional Licensing Process on December 20, 2024, and provided public notice of its request on January 3, 2025. In a letter dated February 24, 2025, the Director of the Division of Hydropower Licensing approved Craig-Hayden PS, LLC's request to use the Traditional Licensing Process.

k. With this notice, we are initiating informal consultation with the U.S. Fish and Wildlife Service under section 7 of the Endangered Species Act and the joint agency regulations thereunder at 50 CFR part 402; and NOAA Fisheries under section 305(b) of the Magnuson-Stevens Fishery Conservation and Management Act and implementing regulations at 50 CFR 600.920. We are also initiating consultation with the Colorado State Historic Preservation Officer, as required by section 106, National Historic Preservation Act, and the implementing regulations of the Advisory Council on Historic Preservation at 36 CFR 800.2.

l. With this notice, we are designating Craig-Hayden PS, LLC as the Commission's non-federal representative for carrying out informal consultation, pursuant to section 7 of the Endangered Species Act and section 106 of the National Historic Preservation Act.

m. Craig-Hayden PS, LLC filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field to access the document. For assistance, contact FERC Online Support at FERCOnlineSupport@ferc.gov, (866) 208-3676 (toll free), or (202) 502-8659 (TTY).

You may register online at https://ferconline.ferc.gov/FERCOnline.aspx to be notified via email of new filings and issuances related to this or other pending projects. For assistance, contact FERC Online Support.

o. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 24, 2025.
Debbie-Anne A. Reese,
Secretary.

[FR Doc. 2025-03275 Filed 2-27-25; 8:45 am]

BILLING CODE 6717-01-P